DEPARTMENT OF TRANSPORTATION

Federal Aviation Administration

14 CFR Part 97

[Docket No. 30771; Amdt. No. 3415]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 4, 2011. The compliance date for each SIAP, associated Takeoff Minimums, and ODP is specified in the amendatory provisions.

The incorporation by reference of certain publications listed in the regulations is approved by the Director of the Federal Register as of March 4, 2011.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, and Navigation (Air).

Issued in Washington, DC, on February 18, 2011.
John McGraw,
Deputy Director, Flight Standards Service.

Adoption of the Amendment

Accordingly, pursuant to the authority delegated to me, Title 14, Code of Federal regulations, part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
7-Apr-11 | WI | Stevens Point | Stevens Point Muni | 0/7290 | 2/7/11 | RNAV (GPS) RWY 3, Orig
7-Apr-11 | IL | Chicago | Chicago-O'Hare Intl | 0/7506 | 2/7/11 | ILS OR LOC RWY 9L, ILS RWY 9L (CAT II), ILS RWY 9L (CAT III), Orig-B
7-Apr-11 | NE | Nebraska City | Nebraska City Muni | 0/8316 | 2/7/11 | RNAV (GPS) RWY 15, Orig
7-Apr-11 | NE | Nebraska City | Nebraska City Muni | 0/8318 | 2/7/11 | RNAV (GPS) RWY 33, Orig
7-Apr-11 | NE | Superior | Superior Muni | 0/9915 | 2/14/11 | VOR/DME OR GPS A, Amdt 1
7-Apr-11 | NC | Smithfield | Johnston County | 1/1535 | 1/26/11 | ILS OR LOC RWY 3, Amdt 1
7-Apr-11 | SC | Aiken | Aiken Muni | 1/2610 | 2/7/11 | RNAV (GPS) RWY 7, Orig
7-Apr-11 | PA | Lancaster | Lancaster | 1/2611 | 2/7/11 | RNAV (GPS) RWY 26, Amdt 1A
7-Apr-11 | IL | Fairfield | Fairfield Muni | 1/2742 | 2/8/11 | Takeoff Minimums and Obstacle DP, Amdt 2
7-Apr-11 | NE | Gordon | Gordon Muni | 1/2743 | 2/8/11 | Takeoff Minimums and Obstacle DP, Amdt 2
7-Apr-11 | ND | Minot | Minot Intl | 1/2744 | 2/7/11 | Takeoff Minimums and Obstacle DP, Amdt 3
7-Apr-11 | TN | Memphis | Memphis Intl | 1/2973 | 2/7/11 | RNAV (GPS) RWY 9, Amdt 1
7-Apr-11 | TN | Memphis | Memphis Intl | 1/2974 | 2/7/11 | RNAV (GPS) RWY 27, Amdt 1
7-Apr-11 | NC | Asheville | Asheville Rgnl | 1/2976 | 2/8/11 | ILS OR LOC RWY 34, Amdt 23G
7-Apr-11 | FL | Boca Raton | Boca Raton | 1/2977 | 2/7/11 | RNAV (GPS) RWY 5, Orig-A
7-Apr-11 | FL | Boca Raton | Boca Raton | 1/2978 | 2/7/11 | RNAV (GPS) RWY 23, Orig
7-Apr-11 | LA | Lake Charles | Lake Charles Rgnl | 1/2986 | 2/7/11 | RADAR-1, Amdt 5B
7-Apr-11 | TX | Kenedy | Karnes County | 1/3003 | 2/7/11 | Takeoff Minimums and Obstacle DP, Orig
7-Apr-11 | MN | Moorhead | Moorhead Muni | 1/3004 | 2/7/11 | VOR A, Amdt 1A
7-Apr-11 | NY | Buffalo | Buffalo Airfield | 1/3299 | 2/7/11 | RNAV (GPS) RWY 24, Orig
7-Apr-11 | WV | Summersville | Summersville | 1/3301 | 2/7/11 | Takeoff Minimums and Obstacle DP, Amdt 3
7-Apr-11 | OK | Oklahoma City | Wiley Post | 1/3330 | 2/7/11 | RADAR-1, Amdt 2
7-Apr-11 | IL | Cahokia/St. Louis | St Louis Downtown | 1/3331 | 2/7/11 | RNAV (GPS) RWY 12R, Orig
7-Apr-11 | IL | Cahokia/St. Louis | St Louis Downtown | 1/3332 | 2/7/11 | ILS OR LOC RWY 30L, Amdt 9
7-Apr-11 | IL | Springfield | Abraham Lincoln Capital | 1/3334 | 2/7/11 | RNAV (GPS) RWY 4, Orig
7-Apr-11 | MN | Maple Lake | Maple Lake Muni | 1/3335 | 2/7/11 | GPS RWY 28, Orig
7-Apr-11 | TN | Memphis | Memphis Intl | 1/3343 | 2/7/11 | ILS OR LOC RWY 18C, Amdt 1
7-Apr-11 | NE | McCook | McCook Ben Nelson Rgnl | 1/3346 | 2/7/11 | RNAV (GPS) RWY 30, Orig
7-Apr-11 | TN | Memphis | Memphis Intl | 1/3347 | 2/7/11 | RNAV (GPS) RWY 36R, Amdt 1A
7-Apr-11 | TX | Port Isabel | Port Isabel—Cameron County | 1/3406 | 2/7/11 | VOR A, Amdt 6
7-Apr-11 | FL | Apalachicola | Apalachicola Regional | 1/3488 | 2/7/11 | RNAV (GPS) A, Orig
7-Apr-11 | FL | Fort Myers | Page Field | 1/3495 | 2/7/11 | GPS RWY 31, Orig-A
7-Apr-11 | FL | Fort Myers | Page Field | 1/3496 | 2/7/11 | ILS RWY 5, Amdt 6E
7-Apr-11 | FL | Fort Myers | Page Field | 1/3497 | 2/7/11 | VOR WY 13, Orig-B
7-Apr-11 | ME | Portland | Portland Intl Jetport | 1/3506 | 2/7/11 | RNAV (GPS) RWY 29, Amdt 1
7-Apr-11 | TX | Fredericksburg | Gillespie County | 1/3573 | 2/7/11 | VOR/DME A, Amdt 3
7-Apr-11 | TX | Fredericksburg | Gillespie County | 1/3574 | 2/7/11 | RNAV (GPS) RWY 32, Orig
7-Apr-11 | TX | Fredericksburg | Gillespie County | 1/3575 | 2/7/11 | RNAV (GPS) RWY 14, Orig
7-Apr-11 | NM | Albuquerque | Albuquerque Intl Sunport | 1/3664 | 2/8/11 | RNAV (GPS) RWY 35, Amdt 1
7-Apr-11 | TX | Port Isabel | Port Isabel—Cameron County | 1/3668 | 2/8/11 | VOR/DME B, Amdt 3
7-Apr-11 | CO | Aspen | Aspen-Pitkin Co/Sardy Field | 1/3699 | 2/7/11 | LOC/DME E, Amdt 1
7-Apr-11 | CO | Aspen | Aspen-Pitkin Co/Sardy Field | 1/3701 | 2/7/11 | VOR/DME OR GPS C, Amdt 4F
7-Apr-11 | VA | Winchester | Winchester Rgnl | 1/3737 | 2/7/11 | Takeoff Minimums and Obstacle DP, Orig
7-Apr-11 | KY | Lexington | Blue Grass | 1/3779 | 2/7/11 | ILS OR LOC RWY 22, Amdt 20
7-Apr-11 | DC | Washington | Washington Dulles Intl | 1/3789 | 2/7/11 | ILS OR LOC/DME RWY 12, Amdt 9
7-Apr-11 | DC | Washington | Washington Dulles Intl | 1/3790 | 2/7/11 | RNAV (GPS) Y RWY 1R, Amdt 1
7-Apr-11 | SC | Allendale | Allendale County | 1/3793 | 2/7/11 | GPS RWY 17, Orig
7-Apr-11 | SC | Allendale | Allendale County | 1/3795 | 2/7/11 | VOR OR GPS A, Amdt 5
7-Apr-11 | SC | Allendale | Allendale County | 1/3796 | 2/7/11 | GPS RWY 35, Amdt 1
7-Apr-11 | VA | South Boston | William M Tuck | 1/3819 | 2/7/11 | VOR A, Amdt 8
7-Apr-11 | VA | South Boston | William M Tuck | 1/3820 | 2/7/11 | RNAV (GPS) RWY 1, Orig
7-Apr-11 | VA | South Boston | William M Tuck | 1/3821 | 2/7/11 | RNAV (GPS) RWY 19, Orig
7-Apr-11 | SC | Columbia | Jim Hamilton L.B. Owens | 1/4017 | 2/8/11 | GPS RWY 31, Orig
7-Apr-11 | NC | Shelby | Shelby-Cleveland County Rgnl | 1/4095 | 2/7/11 | NDB RWY 23, Amdt 1
7-Apr-11 | NC | Shelby | Shelby-Cleveland County Rgnl | 1/4097 | 2/7/11 | RNAV (GPS) RWY 5, Amdt 1
7-Apr-11 | MS | Bay St Louis | Stennis Intl | 1/4120 | 2/7/11 | RNAV (GPS) RWY 18, Orig-A
7-Apr-11 | TN | Memphis | General DeWitt Spain | 1/4170 | 2/7/11 | VOR RWY 17, Orig-A
7-Apr-11 | VA | Orange | Orange County | 1/4171 | 2/7/11 | GPS RWY 8, Orig-A
7-Apr-11 | GA | Griffin | Griffin-Spalding County | 1/4172 | 2/7/11 | NDB RWY 32, Orig-A
7-Apr-11 | TX | Midland | Midland Intl | 1/4195 | 2/7/11 | RNAV (GPS) RWY 10, Amdt 1
7-Apr-11 | NC | Rocky Mount | Rocky Mount—Wilson Rgnl | 1/4441 | 2/7/11 | ILS OR LOC RWY 4, Amdt 16
7-Apr-11 | TN | Tullahoma | Tullahoma Rgnl Arpt/Wm Northern Field | 1/4449 | 2/7/11 | VOR WY 24, Orig-B
7-Apr-11 | VA | Richmond | Chesterfield County | 1/4480 | 2/7/11 | ILS OR LOC RWY 33, Amdt 2
7-Apr-11 | NM | Albuquerque | Albuquerque Intl Sunport | 1/4505 | 2/3/11 | ILS OR LOC RWY 8, Amdt 5E
7-Apr-11 | TX | Fort Worth | Fort Worth Meacham Intl | 1/4557 | 2/7/11 | RNAV (GPS) RWY 16, Amdt 1
7-Apr-11 | TX | Houston | Willam P Hobby | 1/4558 | 2/7/11 | ILS OR LOC RWY 12R, Amdt 12
7-Apr-11 | TX | Houston | Willam P Hobby | 1/4559 | 2/7/11 | RNAV (GPS) RWY 22, Amdt 2
7-Apr-11 | TN | Tullahoma | Tullahoma Rgnl Arpt/Wm Northern Field | 1/4575 | 2/7/11 | RNAV (GPS) RWY 24, Orig-C
7-Apr-11 | TN | Tullahoma | Tullahoma Rgnl Arpt/Wm Northern Field | 1/4576 | 2/7/11 | RNAV (GPS) RWY 6, Orig-A
7-Apr-11 | TX | Caldwell | Caldwell Muni | 1/6133 | 2/14/11 | Takeoff Minimums and Obstacle DP, Orig
7-Apr-11 | TX | Cleveland | Cleveland Muni | 1/6154 | 2/14/11 | VOR A, Amdt 4B
7-Apr-11 | TX | Cleveland | Cleveland Muni | 1/6283 | 2/14/11 | GPS RWY 16, Orig-B

[FR Doc. 2011-4579 Filed 3-3-11; 8:45 am]

BILLING CODE 4910-13-P